ENVIRONMENTAL PROTECTION AGENCY

[FRL-7843-6]

Interagency Project To Clean Up Open Dumps on Tribal Lands: Request for Proposals

AGENCY: Environmental Protection Agency (EPA).

ACTION: Notice of availability.

SUMMARY: The Tribal Solid Waste Interagency Workgroup (Workgroup) is soliciting proposals for its seventh year of the Tribal Open Dump Cleanup Project (Cleanup Project). Since FY99, the Workgroup has funded approximately $13.4 million in projects. In FY04, the Interagency Workgroup made approximately $2.5 million available to fully or partially fund 24 selected projects. A similar amount of funding is projected for FY05. The Cleanup Project is part of a federal effort to help tribes comprehensively address their solid waste needs. The purpose of the Cleanup Project is to assist with closing or upgrading tribal high-threat waste disposal sites and providing alternative disposal and integrated solid waste management.

The Workgroup was established in April 1998 to coordinate federal assistance to tribes in bringing their waste disposal sites into compliance with the municipal solid waste landfill criteria (40 CFR part 258). Current Workgroup members include representatives from the U.S. Environmental Protection Agency (EPA); the Bureau of Indian Affairs (BIA); the Indian Health Service (IHS); and the Departments of Agriculture and Defense. EPA has issued docket number RCRA-2004-0018 for this Notice.

Criteria: Eligible recipients of assistance under the Open Dump Cleanup Project include federally recognized tribes and intertribal consortiums. A full explanation of the submittal process, the qualifying requirements, and the criteria that will be used to evaluate proposals for this project may be found in the Request for Proposals package.

DATES: For consideration, proposals must be received by close of business on January 31, 2005. Proposals postmarked on or before but not received by the closing date will not be considered. Please do not rely solely on overnight mail to meet the deadlines.

FOR FURTHER INFORMATION: Copies of the Request for Proposals package may be downloaded from the Internet at http://www.epa.gov/tribalmsw by clicking on the “Grants/Funding” link. Copies may also be obtained by contacting EPA, IHS or BIA regional or area offices or one of the following Workgroup representatives:

EPA—Christopher Dege, 703-308-2392 or Charles Bearfighter Reddoor 703-308-8245.

IHS—Steve Aoyama, 301-443-1046.

BIA—Debbie McBride, 202-208-3606.

Dated: November 15, 2004.
Matt Hale,
Director, Office of Solid Waste.

[FR Doc. 04-26732 Filed 12-3-04; 8:45 am]

BILLING CODE 6560-50-P